DEPARTMENT OF DEFENSE

Office of the Secretary

[Transmittal No. 24-111]

Arms Sales Notification

Correction

In Notice document 2025-22754 beginning on page 57963 in the issue of Monday, December 15, 2025, make the following corrections:

On pages 57964 and 57965 the Arms Sales Notifications for August 25, 2022 should be removed.

[FR Doc. C1-2025-22754 Filed 2-12-26; 8:45 am]

BILLING CODE 1505-01-D